DEPARTMENT OF HOMELAND SECURITY

Directorate of Information Analysis and Infrastructure Protection; National Infrastructure Advisory Council

Notice of Open Meeting

The National Infrastructure Advisory Council (NIAC) will meet on Tuesday, October 14, 2003, from 2 p.m. until 4 p.m. EDT. The meeting, which will be held telephonically, will be open to the public via a “listen only” telephone bridge. The number of lines is limited and will be available on a “first-come, first-served” basis. Members of the public interested in attending by telephone should call (roll free) 1-877-888-4034 and notify the operator that they are calling for the NIAC conference.

The Council advises the President of the United States on the security of information systems for critical infrastructure supporting other sectors of the economy, including banking and finance, transportation, energy, manufacturing, and emergency government services.

Summary of Agenda

At this meeting, the Council will receive the findings and propose recommendations developed by its working groups on Cross Sector Interdependencies and Risk Assessment Guidance and Regulatory Guidance, respectively. In addition, the Council will receive status briefings on the continuing activities of its working groups on Vulnerability Disclosure Guidelines and the Evaluation and Enhancement of Information Sharing and Analysis. Copies of briefing materials to be used during the meeting will be posted on the Meeting information section of the Council's Web site at http://www.dhs.gov/dhspublic/display?theme=9&content=1795 in advance of the meeting.

Written comments may be submitted at any time before or after the meeting. However, to facilitate distribution of public presentation materials to Council members, the Council suggests that presenters forward the public presentation materials, ten days priors to the meeting date, to the following address: Mr. Eric T. Werner, Directorate of Information Analysis and Infrastructure Protection, U.S. Department of Homeland Security, 14th Street & Constitution Avenue, NW., Room 6703, Washington, DC 20230.

For more information about the NIAC or this meeting, please refer to the Council's web site or contact Eric Werner at (202) 482-7470.

Dated: September 29, 2003
Eric T. Werner,
Council Liaison Officer.

[FR Doc. 03-25516 Filed 10-3-03; 1:50 pm]

BILLING CODE 4410-10-M